DEPARTMENT OF ENERGY

Federal Energy Regulatory Commission

[Docket Nos. CP06-442-000, CP06-443-000, and CP06-444-000]

UGI LNG, Inc.; Notice of Filing

September 8, 2006.

Take notice that on August 31, 2006, UGI LNG, Inc. (UGI LNG) filed an abbreviated application for a certificate of public convenience and necessity and blanket certificates, pursuant to section 7(c) of the Natural Gas Act (NGA) and part 157 of the Commission's Rules and Regulations, authorizing UGI LNG to acquire and operate an existing liquefied natural gas (LNG) peak-shaving facility located near the town of Temple in Ontelaunee Township, Berks County, Pennsylvania (the Temple Facility), certain appurtenant pipeline facilities interconnecting with the interstate facilities of Texas Eastern Transmission L.P. (Texas Eastern), and associated authority. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The Temple Facility is currently operated by UGI Energy Services, Inc. (UGIES) for the provision of full requirements LNG delivery services to UGI Utilities, Inc. (UGIU). The Temple Facility is connected only to intrastate pipeline facilities owned by UGIU and operated subject to the oversight authority of the Pennsylvania Public Utility Commission. The requested certification will enable UGI LNG to offer firm and interruptible LNG liquefaction, storage, and vaporization services in interstate commerce. The Temple Facilities consists of a 250,000 Mcf storage tank, a vaporization system designed to deliver up to 50,000 Dth/d, a liquefier designed to deliver 4,000 Dth/d, and an approximately 5,000 feet of 8 inch pipeline connecting the Temple Facilities to Texas Eastern's system. UGI LNG proposes market-based rates for the LNG liquefaction storage, and vaporization services which will commenced on January 1, 2007.

Any questions regarding the application are to be directed to Frank H. Markle, Counsel, UGI Corporation, Box 858, Valley Forge, PA 19482.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001(a)(1)(iii) and the instructions on the Commission's Web site under the “e-Filing” link. The Commission strongly encourages electronic filings.

Comment Date: September 29, 2006.

Magalie R. Salas,
Secretary.

[FR Doc. E6-15379 Filed 9-15-06; 8:45 am]

BILLING CODE 6717-01-P